DEPARTMENT OF ENERGY

Federal Energy Regulatory Commission

[Docket No. IS20-66-000]

Enterprise TE Products Pipeline Company LLC; Notice of Tariff Filing and Shortening Time To File Protest and Response

Take notice that on November 13, 2019, pursuant to the Federal Energy Regulatory Commission's (Commission) Rules of Practice and Procedure, 18 CFR 342.2(b) (2019), Enterprise TE Products Pipeline Company LLC (Enterprise TE) filed Tariff 54.48.0 to provide emergency transportation service of propane from Mont Belvieu, Texas to Monee, Illinois. Enterprise TE explains that the emergency provision responds to record propane demand in the Midwest. Enterprise TE seeks waiver pursuant to 18 CFR 341.14 of the notice requirements in section 6(3) of the Interstate Commerce Act to make the tariff effective November 13, 2019.

Notice is given that the deadline pursuant to 18 CFR 343.3 for filing protests to Enterprise TE filing is hereby shortened to and including November 18, 2019. The deadline for filing responses is shortened to and including November 21, 2019. Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Protest Date: 5:00 p.m. Eastern time on November 18, 2019.

Response Date: 5:00 p.m. Eastern time on November 21, 2019.

Dated: November 13, 2019.
Kimberly D. Bose,
Secretary.

[FR Doc. 2019-25019 Filed 11-18-19; 8:45 am]

BILLING CODE 6717-01-P